DEPARTMENT OF HEALTH AND HUMAN SERVICES

Centers for Disease Control and Prevention

[60Day-04-05]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: Comprehensive Cancer Control (CCC) Implementation Case Study—New—National Center for Chronic Disease Prevention and Health Promotion (NCCDPHP), Centers for Disease Control and Prevention (CDC).

Background

While much has been learned about the development of CCC plans, little is known about CCC grantee activities, organizational capacity, or essential elements of implementing CCC plans. CDC, through a contractor will evaluate the necessary components of the CCC Program. The evaluation consists of: (1) The design of a plan to evaluate the CCC Program; (2) an evaluation of grantee activities; (3) a nationwide assessment of capacity to plan, implement and evaluate CCC programs, and (4) a study of selected grantees' experiences implementing CCC plans. This project will focus on the fourth component of the evaluation.

Implementation case studies provide the opportunity to follow the relationships among needs identified in the planning process, goals and objectives established in the plan (priorities for action), and implemented activities. The goals of the proposed data collection are to document the process and activities CCC programs undertake to implement a CCC plan, and to document measures CCC programs use to assess how well a CCC plan is implemented.

The data will be collected via in-person interviews with key personnel in the implementation of CCC plans. Key personnel will include: Program directors, program staff in health departments and partner organizations, partner organization decisionmakers, program evaluators, and representatives from non-partner organizations. Interviews will take place during one 3 to 4-day site visit to 10 sites. A total of 240 interviews will be conducted. Interviews will last approximately one to two hours each. The program directors will also complete a packet of background information in preparation for the site visits. The materials will take approximately two hours to complete. The only cost to respondents is their time.

Form and type of respondents | No. of respondents | No. of responses per respondent | Avg. burden per response (in hours) | Total annual burden (in hours)
1: Program Directors | 20 | 1 | 2 | 40
2: Staff Members | 80 | 1 | 1 | 80
3: Partners or Coalition Member | 80 | 1 | 1 | 80
4: Program Evaluators | 20 | 1 | 1 | 20
5: Non-partners | 40 | 1 | 1 | 40
6: Program Directors | 20 | 1 | 2 | 40
Total |  |  |  | 300

Dated: November 7, 2003.
Gaylon D. Morris,
Acting Executive Secretariat, Centers for Disease Control and Prevention.

[FR Doc. 03-28603 Filed 11-14-03; 8:45 am]

BILLING CODE 4163-18-P